DEPARTMENT OF HOMELAND SECURITY

Coast Guard

[Docket No. USCG-2009-0117]

Merchant Marine Personnel Advisory Committee; Meetings

AGENCY: Coast Guard, DHS.

ACTION: Notice of meetings.

SUMMARY: The Merchant Marine Personnel Advisory Committee (MERPAC) will meet in Buzzards Bay, MA, to discuss various issues relating to the training and fitness of merchant marine personnel. These meetings will be open to the public.

DATES: MERPAC will meet on Thursday, April 16, 2009, from 8 a.m. until 4 p.m., and Friday, April 17, 2009, from 8 a.m. until 3 p.m. These meetings may close early if all business is finished. Written material and requests to make oral presentations should reach the Coast Guard on or before March 26, 2009. Requests to have a copy of your material distributed to each member of the committee should reach the Coast Guard on or before March 26, 2009.

ADDRESSES: The Committee will meet in the Bay State Conference Center at the Massachusetts Maritime Academy, 101 Academy Drive, Buzzards Bay, MA. Send written material and requests to make oral presentations to Mr. Mark Gould, Assistant to the Designated Federal Officer (DFO) of MERPAC, at Commandant (CG-5221), U.S. Coast Guard, 2100 Second St., SW., Washington, DC 20593-0001. This notice, as well as all task statements discussed in this notice, may be viewed in our online docket, USCG-2009-0117, at http://www.regulations.gov.

FOR FURTHER INFORMATION CONTACT: Mr. Mark Gould, Assistant to the DFO of MERPAC, at 202-372-1409.

SUPPLEMENTARY INFORMATION: Notice of these meetings is given under the Federal Advisory Committee Act, 5 U.S.C. App. (Pub. L. 92-463).

Agenda of Meeting

The agenda for the April 16, 2009, Committee meeting is as follows:

(1) The full committee will meet to discuss the objectives for the meeting.

(2) Working groups addressing the following task statements may meet to deliberate—

(a) Task Statement 30, concerning Utilizing Military Sea Service for STCW Certifications;

(b) Task Statement 58, concerning Stakeholder Communications During MLD Program Restructuring and Centralization;

(c) Task Statement 64, concerning Recommendations on Areas in the STCW Convention and the STCW Code Identified for Comprehensive Review; and

(d) Task Statement 70, concerning Apprentice Mate/Steersman training program.

(3) New working groups may be formed to address issues proposed by the Coast Guard, MERPAC members, or the public.

(4) At the end of the day, the working groups will make a report to the full committee on what has been accomplished in their meetings. No action will be taken on these reports on this date.

The agenda for the April 17, 2009, Committee meeting is as follows:

(1) Introduction;

(2) Reports from the following working groups;

(a) Task Statement 30, concerning Utilizing Military Sea Service for STCW Certification;

(b) Task Statement 58, concerning Stakeholder Communications During MLD Program Restructuring and Centralization;

(c) Addendum to Task Statement 64, concerning Recommendations on Areas in the STCW Convention and the STCW Code Identified for Comprehensive Review; and

(d) Task Statement 70, concerning Apprentice Mate/Steersman Training Program;

(3) Other items which may be discussed:

(a) Standing Committee—Prevention Through People.

(b) Briefings concerning on-going projects of interest to MERPAC.

(c) Other items brought up for discussion by the Committee or the public.

(4) At the end of the day, the working groups will make a report and, if applicable, recommendations for the full committee to consider for presentation to the Coast Guard. Official action on these recommendations may be taken on this date.

Procedural

These meetings will be open to the public. Please note that the meetings may close early if all business is finished. At the Chair's discretion, members of the public may make oral presentations during the meetings. If you would like to make an oral presentation at a meeting, please notify the Assistant to the DFO no later than March 26, 2009. Written material for distribution at a meeting should reach the Coast Guard no later than March 26, 2009. If you would like a copy of your material distributed to each member of the committee in advance of a meeting, please submit 25 copies to the Assistant to the DFO no later than March 26, 2009.

Information on Services for Individuals With Disabilities

For information on facilities or services for individuals with disabilities or to request special assistance at the meetings, contact the Assistant to the DFO as soon as possible.

Dated: February 26, 2009.
H.L. Hime,
Acting Director of Commercial Regulations and Standards.

[FR Doc. E9-4533 Filed 3-3-09; 8:45 am]

BILLING CODE 4910-15-P